DEPARTMENT OF COMMERCE

National Oceanic and Atmospheric Administration

50 CFR Part 660

[I.D. 012400C]

Western Pacific Fishery Management Council; Notice of Intent; Public Scoping Meetings

AGENCY: National Marine Fisheries Service (NMFS), National Oceanic and Atmospheric Administration (NOAA), Commerce.

ACTION: Notice of intent to prepare an EIS; notice of intent to prepare amendments; public scoping sessions; request for comments.

SUMMARY: The Western Pacific Fishery Management Council (Council) announces its intention to prepare an environmental impact statement (EIS) on the Federal management of precious corals in the Western Pacific Region. The scope of the EIS analysis will include all activities related to the conduct of the fisheries and will examine the impacts of precious coral harvest on, among other things, protected species. The Council will hold public scoping meetings and accept written comments to provide for public input into the range of actions, alternatives, and impacts that the EIS should consider.

The Council also announces its intention to develop amendments to the Fishery Management Plan (FMP) for Bottomfish and Seamount Groundfish Fisheries of the Western Pacific Region, the FMP for Crustacean Fisheries of the Western Pacific Region, and the FMP for Precious Coral Fisheries of the Western Pacific Region. The Council will hold meetings to give the public an opportunity to consider management alternatives and provide comments on these amendments.

DATES: Written comments on the intent to prepare an EIS will be accepted on or before March 15, 2000. Public scoping meeting will be held between February 16 and March 1, 2000. See SUPPLEMENTARY INFORMATION for specific dates, times and locations.

ADDRESSES: Written comments on suggested alternatives and potential impacts should be sent to Kitty Simonds, Executive Director, Western Pacific Regional Fishery Management Council, 1164 Bishop St., Suite 1400, Honolulu, HI 96813, and to Dr. Charles Karnella, Administrator, National Marine Fisheries Service, Pacific Islands Area Office, 2570 Dole St., Honolulu, HI 96822. Copies of the documents for the precious corals EIS are available from the Council office. Public scoping meetings will be held in Hawaii and the Commonwealth of the Mariana Islands (CNMI). See SUPPLEMENTARY INFORMATION for specific scoping meeting locations and for special accommodations.

FOR FURTHER INFORMATION CONTACT: Kitty M. Simonds, Executive Director, Western Pacific Fishery Management Council, 808-522-8220.

SUPPLEMENTARY INFORMATION: Scoping meetings for the precious corals EIS will be held at the locations listed here. A summary of the current Federal management system for precious corals in the western Pacific region will be reviewed during a public scoping hearing. A principal objective of the scoping and public input process is to identify a reasonable set of management alternatives that, with adequate analysis, will sharply define critical issues and provide a clear basis for choice among the alternatives. The intent of the EIS is to present an overall picture of the environmental effects of fishing as conducted under the FMPs. The EIS will include a range of reasonable management alternatives and an analysis of their impacts in order to define issues and provide a clear basis for public comments and for choices among options by the Council.

The EIS will discuss the impacts of potential precious coral harvest on the human environment and consider a range of representative alternative management regulations. Alternatives will be assessed for impacts on essential fish habitat, target and non-target species of fish, discarded fish, marine mammals (Hawaiian monk seals and cetaceans), and other protected species present in the western Pacific ecosystem. In addition, the environmental consequences section will contain an analysis of socio-economic impacts of the fishery on the following groups of individuals: (1) Those who participate in harvesting the fishery resources and other living marine resources; (2) those who process and market the fish and fish products; (3) those who are involved in allied support industries; (4) those who consume fish products; (5) those who rely on living marine resources in the management area, either for subsistence needs or for recreational benefits; (6) those who benefit from non-consumptive uses of living marine resources; (7) those involved in managing and monitoring fisheries; and (8) fishing communities.

The Council is evaluating the need to amend the bottomfish, crustacean and precious corals FMPs to better achieve the management objectives of these FMPs. Currently, no Federal regulations are in place to manage the bottomfish, crustacean and precious coral fishery resources in the EEZ waters surrounding the CNMI. There are also no Federal regulations for the bottomfish and crustacean fisheries for the EEZ waters surrounding the Pacific Remote Island Areas (PRIAs). The amendments will consider a wide range of management alternatives to address data shortfalls and possible impacts from the bottomfish, crustacean, and precious coral fisheries in the PRIAs and the CNMI. The Council seeks to solicit public comment and input on a wide range of management alternatives including, but not limited to, the following: Federal permit and data reporting requirements; limited access; vessel monitoring systems; observer program; closed season; closed areas; gear restrictions; size limits; catch quotas; and prohibitions on the use of destructive fishing techniques, including the use of explosives, poisons, bottomset gill-nets, bottom trawls, and tangle nets.

Dates, Times, and Locations of the Scoping Meetings

The public scoping meetings will be held on:

Wednesday, February 16, 2000, from 6:30-8:30 p.m., Joeten-Kiyu Public Library Conference Room, Saipan, CNMI. Phone the Division of Fish and Wildlife Resources, 670-322-9834, for information;

Thursday, February 24, 2000, from 8:30 a.m-12:00 p.m., 73rd Scientific and Statistical Committee meeting, Council Office Conference Room, Honolulu, HI. Phone the Council Office, 808-522-8220, for information; and

Thursday, March 1, 2000, Hibiscus Ballroom, Ala Moana Hotel, Honolulu, HI. Phone the Council Office, 808-522-8220, for information.

These meetings will be advertised in the local newspapers.

Special Accommodations

These meetings are physically accessible to people with disabilities. Requests for sign language interpretation or other auxiliary aids should be directed to Kitty M. Simonds, 808-522-20 (voice) or 808-522-8226 (fax), at least 5 days prior to the meeting date.

Authority: 16 U.S.C. 1801 et seq.

Dated: February 3, 2000.
Bruce C. Morehead,
Acting Director, Office of Sustainable Fisheries, National Marine Fisheries Service.

[FR Doc. 00-2933 Filed 2-8-00; 8:45 am]

BILLING CODE 3510-22-F